DEPARTMENT OF DEFENSE

Department of the Navy

Notice of Public Meetings for the Draft Environmental Impact Statement for Naval Weapons Systems Training Facility Boardman, OR

AGENCY: Department of the Navy, DoD.

ACTION: Notice.

SUMMARY: Pursuant to section 102(2)(c) of the National Environmental Policy Act of 1969 and regulations implemented by the Council on Environmental Quality (40 Code of Federal Regulations parts 1500-1508), the Department of the Navy (DoN) has prepared and filed with the U.S. Environmental Protection Agency a Draft Environmental Impact Statement (EIS) that evaluates the potential environmental effects associated with ongoing and proposed DoN and Oregon National Guard training and testing activities at Naval Weapons Systems Training Facility (NWSTF) Boardman, Oregon to include establishment of new associated Special Use Airspace (SUA). The National Guard Bureau and Federal Aviation Administration are cooperating agencies for this EIS.

NWSTF Boardman is the principal regional training range for aviation units located at Naval Air Station Whidbey Island and is used for training by Oregon National Guard units located throughout the state of Oregon. NWSTF Boardman also supports training requirements of the U.S. Air Force Reserve, and SUA activities for Department of Defense (DoD) contractors for unmanned aerial system testing and training of DoD personnel.

With the filing of the Draft EIS, the DoN is initiating a 60-day public comment period and has scheduled two public meetings to receive comments on the Draft EIS. This notice announces the dates and locations of the public meetings for the Draft EIS and provides supplementary information.

DATES AND ADDRESSES: The 60-day Draft EIS public review period will begin September 7, 2012, and end on November 6, 2012. The DoN will hold two public meetings to inform the public about the proposed action and the alternatives under consideration, and to provide an opportunity for the public to comment on the proposed action, alternatives, and the adequacy and accuracy of the analysis in the Draft EIS. Each of the public meetings will include an open house information session, with informational poster stations staffed by DoN and Oregon National Guard representatives, followed by a short presentation and oral comment opportunity. Federal, state, and local agencies and officials, and interested groups and individuals are encouraged to provide comments in person at any of the public meetings or in writing during the public comment period.

The public meetings will be held at each location between 5:00 p.m. and 8:00 p.m. on the following dates:

1. Tuesday, September 25, 2012, Hermiston Conference Center Great Room, 415 South Highway 395, Hermiston, Oregon 97838.

2. Wednesday, September 26, 2012, Port of Morrow Conference Center Riverfront Room, 2 Marine Drive, Boardman, Oregon 97818.

Attendees will be able to submit oral and written comments during the public meetings. Oral testimony from the public will be recorded by a court reporter. In the interest of available time, and to ensure all who wish to give an oral statement have the opportunity to do so, each speaker's comments will be limited to three (3) minutes. Equal weight will be given to oral and written statements. Comments may also be submitted via the U.S. Postal Service or electronically via the project Web site provided below. All statements, oral or written, submitted during the public review period will become part of the public record on the Draft EIS and will be reviewed and acknowledged or responded to in the Final EIS.

Public meeting details will be announced in local newspapers. Additional information is available on the project Web site at www.NWSTFBoardmanEIS.com.

FOR FURTHER INFORMATION CONTACT: Naval Facilities Engineering Command, Northwest, Attention: Ms. Amy Burt—NWSTF Boardman EIS Project Manager, 1101 Tautog Circle, Suite 203, Silverdale, Washington 98315-1101.

SUPPLEMENTARY INFORMATION: A Notice of Intent to prepare this Draft EIS was published in the Federal Register on October 5, 2010 (75 FR 61452). A separate and additional scoping effort was conducted to address the modification of the proposed action to include establishment of a Military Operations Area that would join the current SUA associated with NWSTF Boardman. The Notice of Intent for the modification of the proposed action was published in the Federal Register on December 27, 2011 (76 FR80910).

The DoN's proposed action involves construction and operation of new range facilities and changes in existing training and testing activities at NWSTF Boardman. In general, the proposed action would increase the types of training and testing activities and the number of training events conducted at NWSTF Boardman; accommodate force structure changes; and provide enhancements to training facilities and activities at NWSTF Boardman and its associated SUA.

To comply with federal mandates, the DoN proposes to maintain and enhance current levels of military readiness through improvement of training at NWSTF Boardman, accommodate possible future increases in training, and maintenance of the long-term viability of NWSTF Boardman as a military training and testing area. The proposed action is needed to provide a training environment consisting of ranges, training areas, and range instrumentation with the capacity and capabilities to fully support required training tasks for military units and personnel utilizing NWSTF Boardman.

The Draft EIS includes analysis of the potential environmental impacts of three alternatives, including the No Action Alternative and two action alternatives. The No Action Alternative constitutes the current level of baseline training and testing activities. Alternative 1 includes all current training and testing activities; the establishment and use of an additional Military Operations Area to the northeast of existing NWSTF Boardman SUA; an increase in existing training activities; new training activities; and range enhancements and facilities to meet DoN and Oregon National Guard training requirements. Alternative 2 includes all elements of Alternative 1 and the implementation of additional range enhancements, including the addition of a second (western) convoy live-fire range, a new range operations control center, and three mortar training positions.

Mitigation measures for potential effects to biological resources are being coordinated through appropriate Federal agencies. There are no Federally-listed species under the Endangered Species Act present at NWSTF Boardman, however, the DoN is conferencing with the U.S. Fish and Wildlife Service, as appropriate, for potential impacts to the candidate species, Washington ground squirrel (Urocitellus washingtoni).

The Draft EIS was distributed to Federal, state, and local agencies, elected officials, and other interested individuals and organizations. Copies of the Draft EIS are also available for public review at the following public libraries:

1. Multnomah County Central Library, 801 Southwest 10th Avenue, Portland, Oregon 97205.

2. Boardman Branch of the Oregon Trail Library District, 200 South Main Street, Boardman, Oregon 97818.

3. Heppner Branch of the Oregon Trail Library District, 444 North Main Street, Heppner, Oregon 97836.

4. Central Branch of the Salem Public Library, 585 Liberty Street Southeast, Salem, Oregon 97301.

5. West Salem Branch of the Salem Public Library, 395 Glen Creek Road Northwest, Salem, Oregon 97304.

6. Stafford Hansell Government Center, 915 Southeast Columbia Drive, Hermiston, Oregon 97838.

Copies of the Draft EIS are also available for electronic viewing at www.NWSTFBoardmanEIS.com. A paper copy of the Executive Summary or a single compact disc of the Draft EIS will be made available upon written request.

Dated: August 31, 2012.
C.K. Chiappetta
Lieutenant Commander, Judge Advocate General's Corps, U.S. Navy, Federal Register Liaison Officer.

[FR Doc. 2012-22097 Filed 9-6-12; 8:45 am]

BILLING CODE 3810-FF-P